DEPARTMENT OF AGRICULTURE

Forest Service

Land Between the Lakes Advisory Board

AGENCY: Forest Service, Agriculture (USDA).

ACTION: Notice of meeting.

SUMMARY: The Land Between the Lakes Advisory Board will hold a public meeting according to the details shown below. The Board is authorized under the Charter for the Land Between the Lakes Advisory Board and operates in compliance with the Federal Advisory Committee Act (FACA). The purpose of the Board is to advise the Secretary of Agriculture on means of promoting public participation for the land and resource management plan for the Recreation Area; of providing environmental education; of developing an annual work plan for recreation and environment education areas in the Recreation Area, including the heritage program, with the nonappropriated amounts in the Land Between the Lakes Management Fund; of providing an annual forest management and harvest plan for the Recreation Area; and to establish the Land Between the Lakes Management Fund.

DATES: An in-person and virtual meeting will be held on March 27, 2024, 9 a.m.-4 p.m., central daylight time (CDT).

Written and Oral Comments: Anyone wishing to provide in-person oral comments must pre-register by 11:59 p.m. (CDT) on March 19, 2024. Written public comments will be accepted up to 11:59 p.m. (CDT) on March 19, 2024. Comments submitted after this date will be provided to the Forest Service, but the Board may not have adequate time to consider those comments prior to the meeting.

All board meetings are subject to cancellation. For status of the meeting prior to attendance, please contact the person listed under FOR FURTHER INFORMATION CONTACT.

ADDRESSES: This meeting will be held in-person at the Land Between the Lakes National Recreation Area Administration Building located at 100 Van Morgan Drive, Golden Pond, Kentucky 42211. The public may also join virtually via Microsoft Teams at: https://landbetweenthelakes.us/about/working-together/advisory-board/ or by contacting the person listed under FOR FURTHER INFORMATION CONTACT.

Written Comments: Written comments must be sent by email to SM.FS.LBL_AdBoard@usda.gov or via mail (i.e., postmarked) to Land Between the Lakes National Recreation Area, Attention: Christine Bombard, 100 Van Morgan Drive, Golden Pond, Kentucky 42211. The Forest Service strongly prefers comments be submitted electronically.

Oral Comments: Persons or organizations wishing to make oral comments must pre-register by 11:59 p.m. CDT, March 19, 2024, and speakers can only register for one speaking slot. Oral comments must be sent by email to SM.FS.LBL_AdBoard@usda.gov or via mail (i.e., postmarked) to Land Between the Lakes National Recreation Area, Attention: Christine Bombard, 100 Van Morgan Drive, Golden Pond, Kentucky 42211.

FOR FURTHER INFORMATION CONTACT: Jim McCoy, Designated Federal Officer (DFO), by phone at 270-924-2001 or email at SM.FS.LBL_AdBoard@usda.gov or Christine Bombard, Board Coordinator, at 270-924-2002 or email at SM.FS.LBL_AdBoard@usda.gov.

SUPPLEMENTARY INFORMATION: The purpose of the meeting is to:

1. Discuss natural resource management;

2. Discuss recreation; and

3. Discuss environmental education.

The agenda will include time for individuals to make oral statements of three minutes or less. Individuals wishing to make an oral statement should make a request in writing at least three days prior to the meeting date to be scheduled on the agenda. Written comments may be submitted to the Forest Service up to 7 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section, or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Board. To ensure that the recommendations of the Board have taken into account the needs of the diverse groups served by USDA, membership shall include to the extent possible, individuals with demonstrated ability to represent minorities, women, and persons with disabilities. USDA is an equal opportunity provider, employer, and lender.

Dated: February 15, 2024.
Cikena Reid,
USDA Committee Management Officer.

[FR Doc. 2024-03680 Filed 2-22-24; 8:45 am]

BILLING CODE 3411-15-P